Title 3—

The President

Proclamation 8881 of October 5, 2012

Fire Prevention Week, 2012

By the President of the United States of America

A Proclamation

Every year, fires in and around homes nationwide put thousands of Americans in harm's way. From the loss of a home to the tragic passing of a loved one, the devastation these disasters leave in their wake is heartbreaking. During Fire Prevention Week, we resolve to protect ourselves, our families, and our communities from fires, and we honor the courageous first responders who put their lives at risk to keep us safe.

All of us can take meaningful steps to reduce the risk of fire in our homes. I encourage all Americans to install and maintain smoke alarms, test smoke alarm batteries regularly, and follow safe practices in the kitchen and when using electrical appliances. Families should also develop and practice a fire escape plan that includes at least two ways out of every room. To learn more about these and other simple precautions against home fires, visit www.Ready.gov.

This year, wildfires caused profound damage to communities across our country, and our Nation mourned the loss of life that followed. These events reminded us that wildfires are often unpredictable, which is why it is essential for people in areas at risk to practice proper fire prevention and preparedness. Those who live in regions prone to wildfire can take action by clearing flammable vegetation, preparing an emergency supply kit, and sharing evacuation routes and a communications plan with their family in case of emergency. Individuals who see a wildfire should report it by calling 911, and if advised, evacuate immediately.

As we mark Fire Prevention Week by recommitting to preparedness, we also extend our thoughts and prayers to all those who have been affected by fires this year—including the brave first responders who fought them. Summoning courage in crisis and bringing discipline and professionalism to the job each and every day, America's firefighters are heroes in every sense. This week, we express our deepest gratitude for their service to our communities and our Nation, and we pay solemn tribute to the men and women who gave their lives to protect our own. Their sacrifice will never be forgotten, and in their memory, let us rededicate ourselves to preventing tragedy before it strikes.

NOW, THEREFORE, I, BARACK OBAMA, President of the United States of America, by virtue of the authority vested in me by the Constitution and the laws of the United States, do hereby proclaim October 7 through October 13, 2012, as Fire Prevention Week. On Sunday, October 7, 2012, in accordance with Public Law 107-51, the flag of the United States will be flown at half-staff on all Federal office buildings in honor of the National Fallen Firefighters Memorial Service. I call on all Americans to participate in this observance with appropriate programs and activities and by renewing their efforts to prevent fires and their tragic consequences.

IN WITNESS WHEREOF, I have hereunto set my hand this fifth day of October, in the year of our Lord two thousand twelve, and of the Independence of the United States of America the two hundred and thirty-seventh.

[FR Doc. 2012-25228

Filed 10-11-12; 8:45 am]

Billing code 3295-F3